DEPARTMENT OF ENERGY

Federal Energy Regulatory Commission

[Docket No. EL00-95-045, et al.]

San Diego Gas & Electric Company, et al.; Electric Rate and Corporate Filings

June 15, 2004.

The following filings have been made with the Commission. The filings are listed in ascending order within each docket classification.

1. San Diego Gas & Electric Company v. Sellers of Energy and Ancillary Service Into Markets Operated by the California Independent System Operator Corporation and the California Power Exchange; Investigation of Practices of the California Independent System Operator and the California Power Exchange

[Docket No. EL00-95-045; EL00-95-083; EL00-95-087; EL00-98-042; EL00-98-071; and EL00-98-074]

On June 14, 2004, The Dynegy Parties, Williams Power Company, Inc., and the California Parties filed an Expedited Joint Request for Waiver of Fuel Allowance Filing Requirements (Waiver Request), in the above-docketed proceedings. By this notice, the period for filing comments on the Waiver Request is hereby shortened to and including June 21, 2004.

2. Connecticut Department of Public Utility Control and Connecticut Office of Consumer Counsel

[Docket No. EL04-109-000]

Take notice that on June 10, 2004, the Connecticut Department of Public Utility Control and the Connecticut Office of Consumer Counsel (collectively, Connecticut Petitioners) pursuant to Rule 207(a)(2) of the Rules of Practice and Procedure of the Federal Energy Regulatory Commission, filed a petition for a declaratory order to terminate a controversy and remove alleged uncertainty about the interpretation of power purchase contracts between Connecticut Yankee Atomic Power Company (Connecticut Yankee) and its public utility power purchasers. The Connecticut Petitioners ask the Federal Energy Regulatory Commission to resolve this controversy expeditiously and declare that the public utility power purchasers remain liable for all decommissioning costs but must refund to end-use ratepayers any costs that the Commission later determines were imprudently incurred. The Connecticut Petitioners request expedited treatment because the uncertainty about the obligations of Connecticut Yankee and the public utility power purchasers for imprudently incurred costs must be resolved in connection with Connecticut Yankee's new rate case that must be filed on or before July 1, 2004.

Comment Date: June 29, 2004.

3. Indigo Generation LLC; Larkspur Energy LLC; and Wildflower Energy LP

[Docket No. ER01-1822-002]

Take notice that on June 9, 2004, Indigo Generation LLC, Larkspur Energy LLC, and Wildflower Energy LP (collectively, the Wildflower Entities) submitted their Triennial Updated Market Analysis and an amendment to their individual market-based rate tariffs and rate schedules to add Appendix A, Market Behavior Rules. The Wildflower Entities state that this filing is made in compliance with the Commission's order issued June 12, 2001 in Docket No. ER01-1822 and the Commission's November 17, 2003, Order Amending Market-Based Rate Tariffs and Authorizations, Investigation of Terms and Conditions of Public Utility Market-Based Rate Authorizations, 105 FERC ¶ 61,218 (2003).

Comment Date: June 30, 2004.

4. Conjunction, LLC

[Docket No. ER03-452-003]

On June 9, 2004, Conjunction, LLC (Conjunction) filed a “Motion to Determine the Scope of Negotiated Rate Authority and Request for Expedited Consideration.” In the motion, Conjunction requests that the Commission find that the Commission's order issued May 21, 2003 in Docket No. ER03-542-000, 103 FERC ¶ 61,198, permits Conjunction to sell a substantial portion of the capacity of the Empire Connection merchant transmission project pursuant to the broad-based request for proposal recently issued by the New York Power Authority. Conjunction requests Commission action by July 30, 2004 and, in addition, requests a shortened comment period.

Comment Date: June 23, 2004.

5. MidAmerican Energy Company

[Docket No. ER04-703-001]

Take notice that on June 10, 2004 MidAmerican Energy Company (MidAmerican), in compliance with the Commission's letter order issued May 14, 2004 in Docket No. ER04-703-000, filed with the Commission an Electric Interconnection Agreement between MidAmerican Energy Company and Northwest Iowa Power Cooperative, incorporating the Third Amendment to the Agreement dated March 9, 2004, which includes the rate schedule designations as required by Order 614.

MidAmerican states that it has served a copy of the filing on the Iowa Utilities Board, the Illinois Commerce Commission and the South Dakota Public Utilities Commission.

Comment Date: July 1, 2004.

6. Vermont Electric Cooperative, Inc.

[Docket No. ER04-794-001]

Take notice that on June 10, 2004, Vermont Electric Cooperative, Inc. (VEC) tendered for filing a supplement to its May 3, 2004 annual formula rate update to its FERC Electric Tariff, Original Volume No. 1 and its First Revised Rate Schedule FERC Nos. 4 through 7. VEC requests effective dates for its annual update of May 1, 2004, June 1, 2004, and July 1, 2004.

VEC states that a copy of this filing is being served on each of the customers under the Tariff and Rate Schedules the Vermont Public Service Board and the Vermont Department of Public Service.

Comment Date: July 1, 2004.

7. Wabash Valley Power Association, Inc.

[Docket No. ER04-805-001]

Take notice that on June 7, 2004, as supplemented on June 9, 2004 Wabash Valley Power Association, Inc. (Wabash Valley) tendered for filing a Supplement to Application for Market-Based Rate Authority and Motion for Expedited Consideration and Shortened Notice Period. Wabash requests an effective date of July 1, 2004. Wabash also requests a shortened notice period.

Comment Date: June 21, 2004.

8. Niagara Mohawk Power Corporation

[Docket No. ER04-920-000]

Take notice that on June 9, 2004, Niagara Mohawk Power Corporation, a National Grid Company (Niagara Mohawk), tendered for filing Service Agreement No. 334 between Niagara Mohawk and Oneida Indian Nation (Oneida) under the New York Independent System Operator's FERC Electric Tariff, Original Volume No. 1. Niagara Mohawk states that under the Service Agreement, Niagara Mohawk will provide interconnection service to Oneida for the Turning Stone Substation.

Niagara Mohawk states that a copy of this filing has been served on Oneida, the New York Independent System Operator and the New York State Department of Public Service.

Comment Date: June 30, 2004.

9. Southern California Edison Company

[Docket No. ER04-922-000]

Take notice that on June 10, 2004, Southern California Edison Company (SCE) tendered for filing a Notice of Cancellation of Rate Schedule No. 349.4, a 115kV Added Facilities Agreement between SCE and Southern California Water Company (SCWC). SCE also filed an Amended and Restated Transmission Service Agreement between SCWC and SCE designated as Rate Schedule FERC No. 465; a Service Agreement for Wholesale Distribution Service between SCE and SCWC designated as Second Revised Service Agreement No. 4; and an Amended and Restated 33kV Added Facilities Agreement between SCE and SCWC designated as Rate Schedule FERC No. 466.

SCE states that copies of this filing were served upon the Public Utilities Commission of the State of California and SCWC.

Comment Date: June 28, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1397 Filed 6-23-04; 8:45 am]

BILLING CODE 6717-01-P